COMMITTEE FOR PURCHASE FROM PEOPLE WHO ARE BLIND OR SEVERELY DISABLED

Procurement List; Proposed Additions and Deletions

AGENCY: Committee for Purchase From People Who Are Blind or Severely Disabled.

ACTION: Proposed deletions from the Procurement List.

SUMMARY: The Committee is proposing to delete products and service(s) from the Procurement List that were furnished by nonprofit agencies employing persons who are blind or have other severe disabilities.

DATES: Comments must be received on or before: October 11, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion to the Procurement List:

NSN(s)—Product Name(s):

8520-01-522-0831—Refill, Soap, Antibacterial, 2000 mL

Authorized Source of Supply: Travis Association for the Blind, Austin, TX

Contracting Activity: GSA/FSS GREATER SOUTHWEST ACQUISITI

7210-00-682-6503—Mattress, Foam, Polyurethane, Cotton Ticking, Blue Stripes, 75″ L x 38″ W x 4″ H

Authorized Source of Supply: Lions Volunteer Blind Industries, Inc., Morristown, TN

Contracting Activity: GSA/FSS GREATER SOUTHWEST ACQUISITI

8465-01-656-1719—Belt, Individual Equipment, LC-1, Olive Drab, No U.S. Markings, Medium

8465-01-656-1721—Belt, Individual Equipment, LC-1, Olive Drab, No U.S. Markings, Large

Authorized Source of Supply: Mississippi Industries for the Blind, Inc., Jackson, MS

Authorized Source of Supply: Winston-Salem Industries for the Blind, Inc., Winston-Salem, NC

Contracting Activity: DLA TROOP SUPPORT

8415-00-782-2948—Trousers, Cold Weather Water Repellent, Army, Green, XSR

8415-01-099-7853—Trousers, Cold Weather Water Repellent, Army, Printed Black, Brown and Green Camouflage, XSR

8415-01-099-7854—Trousers, Cold Weather Water Repellent, Army, Printed Black, Brown and Green Camouflage, SR

8415-01-099-7855—Trousers, Cold Weather Water Repellent, Army, Printed Black, Brown and Green Camouflage, SR

8415-01-099-7856—Trousers, Cold Weather Water Repellent, Army, Printed Black, Brown and Green Camouflage, SL

8415-01-099-7857—Trousers, Cold Weather Water Repellent, Army, Printed Black, Brown and Green Camouflage, MS

8415-01-099-7858—Trousers, Cold Weather Water Repellent, Army, Printed Black, Brown and Green Camouflage, MR

8415-01-099-7859—Trousers, Cold Weather Water Repellent, Army, Printed Black, Brown and Green Camouflage, ML

8415-01-099-7860—Trousers, Cold Weather Water Repellent, Army, Printed Black, Brown and Green Camouflage, LR

8415-01-099-7861—Trousers, Cold Weather Water Repellent, Army, Printed Black, Brown and Green Camouflage, LL

8415-01-099-7862—Trousers, Cold Weather Water Repellent, Army, Printed Black, Brown and Green Camouflage, XLL

8415-01-100-0977—Trousers, Cold Weather Water Repellent, Army, Printed Black, Brown and Green Camouflage, XLR

Authorized Source of Supply: Goodwill Industries of South Florida, Inc., Miami, FL

Contracting Activity: DLA TROOP SUPPORT

8465-01-012-9174—Clipboard, Pilots

Authorized Source of Supply: Human Technologies Corporation, Utica, NY

Contracting Activity: DLA TROOP SUPPORT

9905-01-661-2144—Flag, Marking, 2½″ x 3½″, 21″ Staff, Fluorescent Pink

9905-01-661-2145—Flag, Marking, 2½″ x 3½″, 21″ Staff, Orange

9905-01-661-2149—Flag, Marking, 2½″ x 3½″, 21″ Staff, Orange

9905-01-661-2153—Flag, Marking, 2½″ x 3½″, 21″ Staff, Yellow

Authorized Source of Supply: West Texas Lighthouse for the Blind, San Angelo, TX

Contracting Activity: GSA/FSS GREATER SOUTHWEST ACQUISITI

7510-01-484-1745—Binder, Round Ring, Polyethylene, Flexible, Blue, 2″ Capacity, Letter Size

7510-01-511-4320—Binder, Round Ring, Pockets, Gray, 3″ Capacity, Letter Size

7510-01-519-4363—Binder, Round Ring, Clear Overlay, Pockets, Green, 1½″ Capacity, Letter Size

Authorized Source of Supply: South Texas Lighthouse for the Blind, Corpus Christi, TX

Contracting Activity: GSA/FAS ADMIN SVCS ACQUISITION BR(2

Contracting Activity: DEPARTMENT OF VETERANS AFFAIRS, STRATEGIC ACQUISITION CENTER

Service(s)

Service Type: Messenger Services

Mandatory for: DHS CBP, Area Port St. Thomas, USVI

Contracting Activity: U.S. CUSTOMS AND BORDER PROTECTION, BORDER ENFORCEMENT CTR DIV

Service Type: Mailroom Operation

Mandatory for: U.S. Customs Indianapolis Center: 6026 Lakeside Boulevard

Contracting Activity: U.S. CUSTOMS AND BORDER PROTECTION, ADMIN FACILITIES TRAINING CTR DIV

Service Type: Base Supply Center

Mandatory for: Forbes Field Air National Guard Base, Topeka, KS

Contracting Activity: DEPT OF THE ARMY, W7M9 USPFO ACTIVITY KSANG 190

Service Type: BSC/IEE/Hazmat

Mandatory for: Forbes Field, KS

Contracting Activity: DOD/DEPARTMENT OF THE AIR FORCE

Service Type: Custodial Services

Mandatory for: USMA, Child Development Center, West Point, NY

Contracting Activity: DEPT OF THE ARMY, W6QM MICC-WEST POINT

Service Type: Administrative Services

Mandatory for: US Customs and Border Protection, Calexico SENTRI Enrollment Center, Area Port of Calexico, Calexico, CA

Contracting Activity: U.S. CUSTOMS AND BORDER PROTECTION, BORDER ENFORCEMENT CTR DIV

Michael R. Jurkowski,
Director, Business Operations.

[FR Doc. 2025-17534 Filed 9-10-25; 8:45 am]

BILLING CODE 6353-01-P